DEPARTMENT OF COMMERCE

International Trade Administration

[C-201-861]

Aluminum Extrusions From Mexico: Preliminary Affirmative Countervailing Duty Determination and Alignment of Final Determination With Final Antidumping Duty Determination

Correction

In notice document 2024-05086, beginning on page 17387, in the issue of Monday, March 11, 2024, in footnote eighteen, appearing at the bottom of page 17389, “Metaa´licas” is corrected to read, “Metálicas”.

[FR Doc. C1-2024-05068 Filed 3-14-24; 8:45 am]

BILLING CODE 0099-10-D